ENVIRONMENTAL PROTECTION AGENCY

40 CFR Part 52

[PA-4091a; FRL-6719-7]

Approval and Promulgation of Air Quality Implementation Plans; Pennsylvania; Withdrawal of Direct Final Rule

AGENCY: Environmental Protection Agency (EPA).

ACTION: Withdrawal of direct final rule.

SUMMARY: Due to an adverse comment, EPA is withdrawing a direct final rule which announced the approval of revisions to the Commonwealth of Pennsylvania's State Implementation Plan (SIP). The rule which EPA is withdrawing announced the approval of revisions imposing reasonably available control technology (RACT) on twenty-six major sources of volatile organic compounds (VOCs) and nitrogen oxides (NOx) located in Pennsylvania. In the direct final rule published on April 18, 2000 (65 FR 20746), EPA stated that if EPA received adverse comment by May 18, 2000, EPA would withdraw the rule and it would not take effect. EPA subsequently received an adverse comment, as well as a separate request for an extension of the comment period. EPA will address the comment received in a subsequent final action based upon the proposed action, which was also published on April 18, 2000 (65 FR 20788). In a document published elsewhere in this issue of the Federal Register, EPA is also extending the comment period on this action. EPA will address the adverse comment it has received, as well as any additional comments it may receive during the extended comment period, in its final action.

DATES: The direct final rule is withdrawn as of June 19, 2000.

FOR FURTHER INFORMATION CONTACT: Mr. Ray Chalmers at (215) 814-2061. Mr. Chalmers can also be contacted by mail at the Permits and Technical Assessment Branch, Air Protection Division, Mailcode 3AP11, U.S. Environmental Protection Agency, Region III, 1650 Arch Street, Philadelphia, Pennsylvania 19103, or via e-mail at chalmers.ray@epa.gov.

List of Subjects in 40 CFR Part 52

Environmental protection, Air pollution control, Hydrocarbons, Incorporation by reference, Nitrogen dioxide, Ozone.

Dated: June 13, 2000.
Bradley M. Campbell,
Regional Administrator, Region III.

Accordingly, the amendment of 40 CFR part 52, § 52.2020 to add paragraph (c)(140) is withdrawn as of June 19, 2000.

[FR Doc. 00-15522 Filed 6-16-00; 8:45 am]

BILLING CODE 6560-50-P